DEPARTMENT OF COMMERCE

International Trade Administration

[C-570-054]

Certain Aluminum Foil From the People's Republic of China: Final Results of Countervailing Duty Administrative Review; 2023

AGENCY: Enforcement and Compliance, International Trade Administration, Department of Commerce.

SUMMARY: The U.S. Department of Commerce (Commerce) determines that countervailable subsidies were provided to certain exporters/producers of certain aluminum foil (aluminum foil) from the People's Republic of China (China) during the period of review (POR) January 1, 2023, through December 31, 2023.

DATES: Applicable February 18, 2026.

FOR FURTHER INFORMATION CONTACT: Natasia Byrd, AD/CVD Operations, Office VI, Enforcement and Compliance, International Trade Administration, U.S. Department of Commerce, 1401 Constitution Avenue NW, Washington, DC 20230; telephone: (202) 482-1240.

SUPPLEMENTARY INFORMATION:

Background

On August 8, 2025, Commerce published the Preliminary Results of this administrative review in the Federal Register and invited comments from interested parties.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the deadline for these final results is now February 12, 2026.

¹ See Certain Aluminum Foil from the People's Republic of China: Preliminary Results and Rescission, in Part, of Countervailing Duty Administrative Review; 2023, 90 FR 38442 (August 8, 2025) (Preliminary Results), and accompanying Preliminary Decision Memorandum.

² See Memorandum, “Deadlines Affected by the Shutdown of the Federal Government,” dated November 14, 2025.

³ See Memorandum, “Tolling of all Case Deadlines,” dated November 24, 2025.

For a complete description of the events that occurred since the Preliminary Results, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Results of the Countervailing Duty Administrative Review of Certain Aluminum Foil from the People's Republic of China; 2023,” dated concurrently with, and hereby adopted by, this notice (Issues and Decision Memorandum).

Scope of the Order ⁵

⁵ See Certain Aluminum Foil from the People's Republic of China: Amended Final Affirmative Countervailing Duty Determination and Countervailing Duty Order, 83 FR 17360 (April 19, 2018); see also Certain Aluminum Foil from the People's Republic of China: Notice of Court Decision Not in Harmony With the Amended Final Determination in the Countervailing Duty Investigation, and Notice of Amended Final Determination and Amended Countervailing Duty Order, 85 FR 47730 (August 6, 2020) (collectively, Order).

The product covered by the scope of the Order is aluminum foil from China. A full description of the scope of the Order is contained in the Issues and Decision Memorandum.

Analysis of Comments Received

All issues raised by the interested parties in their case and rebuttal briefs are addressed in the Issues and Decision Memorandum. A list of topics discussed in the Issues and Decision Memorandum is provided in Appendix I to this notice.

Changes Since the Preliminary Results

Based on our analysis of comments from interested parties and the evidence on the record, we made certain changes from the Preliminary Results to the countervailable subsidy calculations for Jiangsu Zhongji Lamination Materials Co., Ltd. (Zhongji). As a result, we have also revised the rate applicable to companies not selected for individual review. In addition, we have made certain changes to the selection methodology of the adverse facts available (AFA) rates used in the Preliminary Results. For a discussion of these changes, see the Issues and Decision Memorandum.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁶ For a complete description of the methodology underlying all of Commerce's conclusions, including our reliance, in part, on facts otherwise available, including adverse facts available, pursuant to sections 776(a) and (b) of the Act, see the Issues and Decision Memorandum.

⁶ See sections 771(5)(B) and (D) of the Act regarding financial contribution; section 771(5)(E) of the Act regarding benefit; and section 771(5A) of the Act regarding specificity.

Companies Not Selected for Individual Review

The statute and Commerce's regulations do not directly address the establishment of rates to be applied to companies not selected for individual examination where Commerce limits its examination in an administrative review pursuant to section 777A(e)(2) of the Act. However, Commerce normally determines the rates for non-selected companies in reviews in a manner that is consistent with section 705(c)(5) of the Act, which provides the basis for calculating the all-others rate in an investigation. Section 705(c)(5)(A)(i) of the Act instructs Commerce, as a general rule, to calculate an all-others rate equal to the weighted average of the countervailable subsidy rates established for exporters and/or producers individually examined, excluding any rates that are zero, de minimis, or based entirely on facts available.

There are 14 companies for which a review was requested and not rescinded, and which were not selected as mandatory respondents or found to be cross-owned with a mandatory respondent. In this review, the only rate that is not zero, de minimis, or based entirely on facts otherwise available is the rate calculated for Zhongji. Consequently, the rate calculated for Zhongji is also assigned as the rate for the companies under review that were not selected for individual examination.

Rate for Non-Responsive Company

As explained in the Preliminary Results, Shanghai Shenyan Packaging Materials Co., Ltd. (Shenyan) was selected as a mandatory respondent in this review; however, Shenyan elected not to participate in this review and did not respond to Commerce's countervailing duty (CVD) questionnaire. We continue to find that by not responding to Commerce's request for information, Shenyan withheld requested information and significantly impeded this proceeding. Thus, in reaching our final results, pursuant to sections 776(a)(2)(A) and (C) of the Act, we continue to base the CVD subsidy rates for this non-responsive company on facts otherwise available.

Further, we continue to determine that an adverse inference is warranted, pursuant to section 776(b) of the Act. By failing to submit a response to Commerce's CVD questionnaire, Shenyan failed to cooperate by not acting to the best of its ability to comply with a request for information in this review. Accordingly, we continue to find that an adverse inference is warranted to ensure that the non-responsive company will not obtain a more favorable result than if it had fully complied with Commerce's request for information. Commerce did not make any changes to its determination to rely on facts otherwise available with adverse inferences from the Preliminary Results for Shenyan. However, Commerce has made certain revisions to the total AFA rate applicable to Shenyan since the Preliminary Results. For a discussion of these changes, see “Use of Facts Otherwise Available and Adverse Inferences” in the Issues and Decision Memorandum.

Final Results of Review

We determine the following net countervailable subsidy rates exist for the period January 1, 2023, through December 31, 2023:

⁷ Zhongji's net countervailable ad valorem subsidy rate reflects Zhongji's rate after an entered value adjustment (EVA). The non-selected company rate reflects Zhongji's ad valorem net countervailable subsidy rate without the EVA.

⁸ As discussed in the Preliminary Results, Commerce finds the following companies to be to be cross-owned with Zhongji: (1) Jiangsu Huafeng Aluminium Industry Co., Ltd. (Jiangsu Huafeng), (2) Shantou Wanshun New Material Group Co., Ltd. (f/k/a Shantou Wanshun Package Material Stock Co., Ltd.), (3) Anhui Zhongji Battery Foil Sci&Tech Co., Ltd. (AKA Anhui Zhongii Battery Foil Science & Technology Co., Ltd.) (f/k/a Anhui Maximum Aluminium Industries Company Limited), (4) Sichuan Wanshun Zhongji Aluminium Industry Co., Ltd., and (5) Anhui Maximum Aluminum Co., Ltd. Furthermore, Commerce finds that Zhongji wholly owns trading company Jiangsu Zhongji Lamination Materials Co., (HK) Limited. Zhongji's trading company and cross-owned affiliates were listed separately in the Initiation Notice.

⁹ See Appendix II for a list of the non-selected companies under review.

Company | Subsidy rate ⁷ (percent ad valorem)
Jiangsu Zhongji Lamination Materials Co., Ltd. (f/k/a Jiangsu Zhongji Lamination Materials Stock Co., Ltd.) ⁸ | 22.10
Shanghai Shenyan Packaging Materials Co., Ltd | 120.81
Non-Selected Companies Under Review ⁹ | 24.02

Disclosure

Commerce intends to disclose its calculations and analysis performed to interested parties for these final results within five days of any public announcement or, if there is no public announcement, within five days of the date of publication of this notice in accordance with 19 CFR 351.224(b).

Assessment Requirements

In accordance with section 751(a)(2)(C) of the Act and 19 CFR 351.212(b)(2), Commerce has determined, and U.S. Customs and Border Protection (CBP) shall assess, countervailing duties on all appropriate entries of subject merchandise in accordance with the final results of this review, for the above-listed companies at the applicable ad valorem assessment rates. We intend to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties in the amounts shown for each of the respective companies listed above on shipments of subject merchandise entered, or withdrawn from warehouse, for consumption on or after the date of publication of the final results of this administrative review. For all non-reviewed firms subject to the Order, we will instruct CBP to continue to collect cash deposits of estimated countervailing duties at the all-others rate or the most recent company-specific rate applicable to the company, as appropriate. These cash deposit requirements, effective upon publication of these final results, shall remain in effect until further notice.

Administrative Protective Order (APO)

This notice also serves as a reminder to parties subject to an APO of their responsibility concerning the destruction of proprietary information disclosed under APO in accordance with 19 CFR 351.305(a)(3). Timely written notification of the return or destruction of APO materials or conversion to judicial protective order, is hereby requested. Failure to comply with the regulations and terms of an APO is a sanctionable violation.

Notification to Interested Parties

We are issuing and publishing these final results in accordance with sections 751(a)(1) and 777(i)(1) of the Act, and 19 CFR 351.221(b)(5).

Dated: February 12, 2026.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Non-Selected Companies Under Review

V. Subsidies Valuation

VI. Use of Facts Otherwise Available and Application of Adverse Inferences

VII. Analysis of Programs

VIII. Discussion of the Issues

Comment 1: Whether Commerce Should Include Warehouse Storage Fees in the Benchmark for the Government Provision of Primary Aluminum for Less Than Adequate Remuneration (LTAR)

Comment 2: Whether Commerce Should Adjust the Benchmark for the Government Provision of Aluminum Plate and/or Sheet and Strip for LTAR

IX. Recommendation

Appendix II

Non-Selected Companies Under Review

1. Dingheng New Materials Co., Ltd.

2. Dingsheng Aluminium Industries (Hong Kong) Trading Co., Ltd.

3. Hangzhou DingCheng Aluminum Co., Ltd.

4. Hangzhou Dingsheng Import & Export Co., Ltd.

5. Hangzhou Dingsheng Industrial Group Co. Ltd.

6. Hangzhou Five Star Aluminium Co., Ltd.

7. Hangzhou Teemful Aluminium Co., Ltd.

8. Inner Mongolia Liansheng New Energy Material Co., Ltd.

9. Inner Mongolia Liansheng New Energy Material Joint-Stock Co., Ltd.

10. Inner Mongolia Xinxing New Energy Material Co., Ltd.

11. Inner Mongolia Xinxing New Material Co., Ltd.

12. Jiangsu Dingsheng New Materials Joint-Stock Co., Ltd.;

13. Thai Ding Li New Materials Co., Ltd.

14. Walson (HK) Trading Co., Limited.

[FR Doc. 2026-03205 Filed 2-17-26; 8:45 am]

BILLING CODE 3510-DS-P